DEPARTMENT OF STATE

[Public Notice: 12573]

Determination Under Section 7012 of the Department of State, Foreign Operations, and Related Programs Appropriations Act, 2024 Relating to Assistance to Zimbabwe

Pursuant to the authority vested in me by section 7012 of the Department of State, Foreign Operations, and Related Programs Appropriations Act, 2024 (Div. F, Pub. L. 118-47) (SFOAA); Executive Order 12163, as amended by Executive Order 13346; and Delegation of Authority 513, 1 hereby determine that targeted assistance to Zimbabwe in the areas of health, good governance and respect for human rights, education, leadership, agriculture/food security, poverty reduction, livelihoods, family planning and reproductive health, macroeconomic growth (including anti-corruption efforts), helping victims of trafficking and combatting trafficking, and advancing biodiversity and wildlife conservation, as well as the continuation of assistance that would have a significant adverse effect on vulnerable populations if suspended, is in the national interest of the United States. I thereby waive with respect to Zimbabwe the application of section 7012 of the FY 2024 SFOAA with respect to such assistance.

This determination shall be published in the Federal Register and, along with the accompanying memorandum of justification, shall be transmitted to Congress.

Dated: August 28, 2024.
Richard R. Verma,
Deputy Secretary of State for Management and Resources, Department of State.

[FR Doc. 2024-25687 Filed 11-4-24; 8:45 am]

BILLING CODE 4710-26-P